DEPARTMENT OF ENERGY

Federal Energy Regulatory Commission

Combined Notice of Filings

Take notice that the Commission has received the following Natural Gas Pipeline Rate and Refund Report filings:

Docket Numbers: RP11-1785-000.

Applicants: Dominion Cove Point LNG, LP.

Description: Dominion Cove Point LNG, LP submits tariff filing per 154.204: DCP—February 18, 2011 Non-Conforming Service Agreement to be effective 3/1/2011.

Filed Date: 02/18/2011.

Accession Number: 20110218-5107.

Comment Date: 5 p.m. Eastern Time on Wednesday, March 02, 2011.

Docket Numbers: RP11-1786-000.

Applicants: Dominion Transmission, Inc.

Description: Dominion Transmission, Inc. submits tariff filing per 154.204: DTI—February 18, 2011 Non-Conforming Service Agreements to be effective 3/1/2011.

Filed Date: 02/18/2011.

Accession Number: 20110218-5110.

Comment Date: 5 p.m. Eastern Time on Wednesday, March 02, 2011.

Docket Numbers: RP11-1787-000.

Applicants: Transcontinental Gas Pipe Line Company, LLC.

Description: Transcontinental Gas Pipe Line Company, LLC submits tariff filing per 154.403(d)(2): Annual Fuel Tracker Filing to be effective 4/1/2011.

Filed Date: 02/18/2011.

Accession Number: 20110218-5117.

Comment Date: 5 p.m. Eastern Time on Wednesday, March 02, 2011.

Docket Numbers: RP11-1788-000.

Applicants: Freebird Gas Storage, L.L.C.

Description: Freebird Gas Storage, L.L.C. submits tariff filing per 154.203: Freebird Gas Storage Baseline Tariff Filing to be effective 2/25/2011.

Filed Date: 02/18/2011.

Accession Number: 20110218-5118.

Comment Date: 5 p.m. Eastern Time on Wednesday, March 02, 2011.

Docket Numbers: RP11-1789-000.

Applicants: Portland Natural Gas Transmission System.

Description: Portland Natural Gas Transmission System submits tariff filing per 154.203: Contract Compliance Filing—RP10-758 to be effective 12/1/2010.

Filed Date: 02/18/2011.

Accession Number: 20110218-5141.

Comment Date: 5 p.m. Eastern Time on Wednesday, March 02, 2011.

Docket Numbers: RP11-1790-000.

Applicants: Kern River Gas Transmission Company.

Description: Kern River Gas Transmission Company submits tariff filing per 154.204: 2011 Daggett Surcharge to be effective 4/1/2011.

Filed Date: 02/22/2011.

Accession Number: 20110222-5092.

Comment Date: 5 p.m. Eastern Time on Monday, March 07, 2011.

Docket Numbers: RP11-1791-000.

Applicants: Duke Energy Ohio, Inc., Duke Energy Hanging Rock II, LLC, Duke Energy Fayette II, LLC.

Description: Duke Energy Ohio, Inc. Duke Energy Fayette II, LLC and Duke Energy Hanging Rock II, LLC Request for Temporary Waiver of Capacity Release Regulations, Expedited Action, and Shortened Notice Period.

Filed Date: 02/22/2011.

Accession Number: 20110222-5241.

Comment Date: 5 p.m. Eastern Time on Tuesday, March 01, 2011.

Docket Numbers: RP11-1792-000.

Applicants: Dominion Transmission, Inc.

Description: Dominion Transmission, Inc. submits tariff filing per 154.204: DTI—Form of Service Agreement Revisions to be effective 3/28/2011.

Filed Date: 02/23/2011.

Accession Number: 20110223-5026.

Comment Date: 5 p.m. Eastern Time on Monday, March 07, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: February 23, 2011.
Nathaniel J. Davis, Sr.,
Deputy Secretary.

[FR Doc. 2011-4471 Filed 2-28-11; 8:45 am]

BILLING CODE 6717-01-P